DEPARTMENT OF HOUSING AND URBAN DEVELOPMENT

[Docket No. FR-5364-N-01]

Mortgagee Review Board: Administrative Actions

AGENCY: Office of the Assistant Secretary for Housing-Federal Housing Commissioner, Department of Housing and Urban Development (HUD).

ACTION: Notice.

SUMMARY: In compliance with Section 202(c) of the National Housing Act, this notice advises of the cause and description of administrative actions taken by HUD's Mortgagee Review Board against HUD-approved mortgagees.

FOR FURTHER INFORMATION CONTACT: Julie Shaffer, Acting Secretary to the Mortgagee Review Board, 451 Seventh Street, SW., Room 3150, Washington, DC 20410-8000; telephone: (215) 861-7216. A Telecommunications Device for Hearing- and Speech-Impaired Individuals (TTY) is available at (800) 877-8339 (Federal Information Relay Service).

SUPPLEMENTARY INFORMATION: Section 202(c)(5) of the National Housing Act (added by Section 142 of the Department of Housing and Urban Development Reform Act of 1989, Pub. L. 101-235, approved December 15, 1989), requires that HUD “publish a description of and the cause for administrative action against a HUD-approved mortgagee” by the Department's Mortgagee Review Board (Board). In compliance with the requirements of Section 202(c)(5), this notice advises of actions that have been taken by the Board from July 10, 2008 to August 4, 2009.

I. Settlement Agreements, Civil Money Penalties, Withdrawal of FHA Approval, Suspensions, Probations, Reinstatement and Reprimand

1. Ascella Mortgage, LLC, Manchester, CT [Docket No. 09-9610-MR]

Action: On August 4, 2009, the Board voted to immediately withdraw Ascella Mortgage LLC's (Ascella) FHA approval for a period of one year.

Cause: The Board took this action based on the following violation of HUD/FHA requirements alleged by HUD: Ascella failed to notify HUD that it voluntarily surrendered its license to originate mortgages.

2. Americare Investment Group, Inc. d/b/a/Premiere Capital Lending, Arlington, TX [Docket No. 08-8082-MR]

Action: On October 8, 2009, the Board entered into a settlement with Americare Investment Group, Inc's., d/b/a Premiere Capital Lending (Americare) requiring, without the admission of fault or liability, the payment of a civil money penalty of $124,000 and placing Americare on probation for a period of six months. During the period of probation, Americare will be required to obtain and provide to HUD post-closing reviews on all construction-to-permanent loans closed during the period.

Cause: The Board took this action based on the following violations of HUD/FHA requirements alleged by HUD: (1) Failing to include required loan documents and information and (2) failing to ensure that the maximum mortgage amount was properly calculated, resulting in over-insured mortgages.

3. Beneficial Mortgage Corp., San Juan, PR [Docket No. 09-9626-MR]

Action: On June 3, 2009, the Board immediately suspended Beneficial Mortgage's (Beneficial) FHA approval pending the outcome of a HUD review and any ensuing legal proceedings.

Cause: The Board took this action based on the following violation of HUD/FHA requirements alleged by HUD: Beneficial failed to notify HUD of a business change affecting the information upon which Beneficial was originally approved. Specifically, Beneficial failed to notify HUD that it was the subject of an investigation by the Puerto Rico Financial Institutions Commissioner's Office.

4. Community Home Lending, Inc., Birmingham, AL [Docket No. 09-8041-MR]

Action: On July 1, 2009, the Board entered into a settlement agreement with Community Home Lending, Inc.'s (Community) requiring Community to pay a civil money penalty in the amount of $11,500 without admitting fault or liability.

Cause: The Board took this action based on the following violations of HUD/FHA requirements alleged by HUD: Community violated third party origination restrictions by allowing non-employees to originate FHA-insured mortgages; allowed an employee to originate FHA-insured mortgages and simultaneously work in the fields of property management and real estate; failed to maintain a quality control (QC) plan conforming to all HUD/FHA requirements, including allowing its reviews to be conducted by a loan officer; and failing to conduct QC reviews in 15 early default cases.

5. Eagle Nationwide Mortgage Company, Chadds Ford, PA [Docket No. 09-9003-MR]

Action: On July 29, 2009, the Board entered into a settlement agreement with Eagle Nationwide Mortgage Company's (Eagle) requiring Eagle to pay a $3,500 civil money penalty without admitting fault or liability.

Cause: The Board took this action based on the following violations of HUD/FHA requirements alleged by HUD: Eagle distributed a direct mail solicitation which improperly used the name of the Federal Housing Administration, thereby implying FHA endorsement of Eagle's programs. Additionally, the text of the advertisement implied that Eagle employed FHA personnel.

6. Golden First Mortgage Corp., Great Neck, New York [Docket No. 09-9625-MR]

Action: On June 3, 2009, the Board immediately suspended Golden First Mortgage's (Golden First) FHA approval pending the outcome of the Office of Inspector General's investigation and any ensuing legal proceedings.

Cause: The Board took this action based on the following violations of HUD/FHA requirements alleged by HUD: Golden First failed to notify HUD of a business change affecting the information upon which Golden First was originally approved. Specifically, Golden First Mortgage failed to notify HUD that its president was under investigation by the Office of Thrift Supervision, U.S. Department of Treasury, and was a party to a civil money penalty proceeding.

7. Great Country Mortgage Bankers, Corp., Coral Gables, FL [Docket No. 09-9618-MR]

Action: On June 3, 2009, the Board immediately suspended Great Country Mortgage Bankers Corporation's (Great Country) FHA approval pending the outcome of a HUD review and any ensuing legal proceedings.

Cause: The Board took this action based on the following violations of HUD/FHA requirements alleged by HUD: Great Country failed to implement a QC plan in compliance with HUD/FHA requirements by failing to conduct QC reviews on loans defaulting within six months of origination; failed to assure exclusive employment with the company for all staff; failed to disclose business affiliations with the owners/sellers of mortgages properties; and failed to verify borrowers' previous rental histories.

8. Liberty Trust Mortgage Corporation, Towson, MD [Docket No. 09-9820-MR]

Action: On August 4, 2009, the Board immediately withdrew Liberty Trust Mortgage Corporation's (Liberty) FHA approval for a period of one year.

Cause: The Board took this action based on the following violation of HUD/FHA requirements alleged by HUD: Liberty failed to notify HUD of the closure of its only office.

9. Madison Home Equities, Inc., Carle Place, NY [Docket No. 09-9820-MR]

Action: The Board entered into an administrative agreement with Madison Home Equities, Inc. (Madison), and Madison's president. The agreement required Madison and its president to: (1) Accept a permanent withdrawal of Madison's FHA-approval; (2) pay HUD a civil money penalty in the amount of $90,000; (3) indemnify HUD for 12 loans; and (4) post security totaling $600,000 to guarantee payments on the indemnifications. The agreement also required Madison's president to notify HUD within ten days of new employment or change in employment with an FHA-approved mortgagee, a business entity associated with the origination, processing, and/or servicing of Federally-related and/or government-insured mortgage loans, or any entity providing consulting services relating to Federally-related and/or government-insured mortgage loan origination, processing, and/or servicing. Furthermore, Madison's president agreed to notify, in writing, any current or future employer that originates, processes, and/or services Federally-related or government-insured mortgage loans that she has entered into a Consent Decree with the United States in connection with activities relating to Federally-related or government-insured loans.

Cause: The Board took this action based on violations of HUD/FHA requirements which were identified and alleged by the United States Attorney's Office for the Eastern Division of New York.

10. Mortgage America Bankers, LLC, Kensington, MD [Docket No. 08-8072-MR]

Action: On September 18, 2009, the Board entered into a settlement agreement with Mortgage America Bankers' (Mortgage America) requiring the payment of a civil money penalty of $10,000 without admitting fault or liability.

Cause: The Board took this action based on the following violations of HUD/FHA requirements alleged by HUD: Mortgage America failed to implement and maintain an acceptable QC plan and was unable to provide QC reports for loans that closed in the years 2006 and 2007, indicating a failure to conduct QC reviews.

11. Mortgage Depot, Inc., Las Vegas, NV [Docket No. 09-9796-MR]

Action: On August 4, 2009, the Board immediately withdrew Mortgage Depot, Inc.'s, (Mortgage Depot) FHA approval for a period of one year.

Cause: The Board took this action based on the following violation of HUD/FHA requirements alleged by HUD: Mortgage Depot failed to notify HUD of its receipt of a sanction notice by the State of Nevada, Division of Mortgage Lending, which proposed a fine and revocation of Mortgage Depot's mortgage broker license.

12. Taylor, Bean and Whitaker Mortgage Corporation, Ocala, FL [Docket No. 09-9607-MR]

Action: On August 4, 2009, the Board immediately suspended Taylor, Bean and Whitaker Mortgage Corporation's (Taylor, Bean and Whitaker) FHA approval to originate and underwrite FHA loans pending completion of an investigation by the HUD Office of Inspector General and completion of a review by HUD's Office of Housing and any ensuing legal proceedings.

Cause: The Board took this action based on the following violations of HUD/FHA requirements alleged by HUD: Taylor, Bean and Whitaker failed to timely file an annual audit report and audited financial statements; submitted false certification and/or misleading information to Ginnie Mae; failed to report irregularities in connection with its FY 2008 audit by Deloitte & Touche; failed to report irregularities in connection with its loan origination practices; failed to comply with HUD/FHA's approval requirements; and submitted false certification on its yearly verification report to HUD.

13. Transland Financial Services, Inc., Maitland, FL [Docket No. 08-8066-MR]

Action: On September 25, 2008, the Board immediately and permanently withdrew Transland Financial Services Inc.'s (Transland) FHA approval.

Cause: The Board took this action based on the following violations of HUD/FHA requirements alleged by HUD: Transland failed to honor the terms of indemnification agreements it had signed with the Department on February 18, 2003, and February 10, 2005. As of July 27, 2008, Transland is indebted to HUD for $278,901. Transland failed to respond to an April 8, 2008, inquiry from HUD's Financial Operations Center in Albany, NY regarding this debt.

14. Universal Bancorp, Ltd., Downers Grove, IL [Docket No. 09-9553-MR]

Action: The Board immediately withdrew Universal Bancorp, Ltd.'s (Universal), FHA approval for a period of one year.

Cause: The Board took this action based on the following violation of HUD/FHA requirements alleged by HUD: Universal failed to notify HUD that it had closed its only FHA-approved branch office.

15. World Alliance Financial Corporation (formerly Vertical Lend, Inc.), Melville, NY [Docket No. 07-7036-MR]

Action: On April 3, 2009, the Board entered into a settlement agreement with World Alliance Financial Corporation's (World Alliance) requiring the payment, without admitting fault or liability, of a civil money penalty in the amount of $13,000.

Cause: The Board took this action based on the following violations of HUD/FHA requirements alleged by HUD: World Alliance failed to implement and maintain a QC plan containing all required elements for the period April 2004 through September 2006. World Alliance also failed to include any FHA insured mortgages in its QC review sample for the period June 2006 to September 2006, despite World Alliance's origination of 320 FHA-insured mortgages during that time period.

II. Lenders That Failed To Meet Requirements for Annual Recertification of HUD/FHA Approval

Action: The Board voted to immediately withdrew the FHA approval of each of the lenders listed below for a period of one year.

Cause: The Board took this action based upon allegations that the lenders were not in compliance with the Department's annual recertification requirements.

1. 1st Point Lending LLC, Milwaukee, WI [Docket No. 09-9628-MR]

2. Aadus Banc Corp., Palatine, IL [Docket No. 09-9630-MR]

3. AccessAmerica Mortgage LLC, Duluth, GA [Docket No. 09-9631-MR]

4. Advantage Home Finance, Pacifica, CA [Docket No. 09-9632-MR]

5. Advent Mortgage LLC, Cranford, NJ [Docket No. 09-9636-MR]

6. Affordable Mortgage Company, Waterford, CT [Docket No. 09-9637-MR]

7. Aggressive Mortgage Corp., Richmond, VA [Docket No. 09-9639-MR]

8. Alaska State Mortgage Inc., Anchorage, AK [Docket No. 09-9640-MR]

9. American Home Mortgage Corp., Melville, NY [Docket No. 09-9642-MR]

10. American Mortgage Lending Services, Inc., Chicago, IL [Docket No. 09-9644-MR]

11. American Residential Mortgage LP, Saint Paul, MN [Docket No. 09-9645-MR]

12. Arrow Service Corp., Inc., Morrison, CO [Docket No. 09-9647-MR]

13. Aurora Financial Services, Inc., New Orleans, LA [Docket No. 09-9648-MR]

14. Bayside Financial Group, Inc., Annapolis, MD [Docket No. 09-9650-MR]

15. BBCP Holdings, Ltd., North Palm Beach, FL [Docket No. 09-9651-MR]

16. BH Mortgage Partners LLC, Suwanee, GA [Docket No. 09-9652-MR]

17. Citizens Trust Financial Group, Inc., Cockeysville, MD [Docket No. 09-9661-MR]

18. Continental Financial Group, Inc., Houma, LA [Docket No. 09-9018-MR]

19. Cosmopolitan Mortgage, Inc., Orange, NJ [Docket No. 09-9665-MR]

20. Cresland Mortgage Company LLC, Plymouth, MN [Docket No. 09-9667-MR]

21. Dove Capital Corporation, Corona, CA [Docket No. 09-9674-MR]

22. Eclipse Mortgage, LLC, Lombard, IL [Docket No. 09-9676-MR]

23. Equity Financial, Inc., East Brunswick, NJ [Docket No. 09-9679-MR]

24. Executive World Corp., d/b/a Executive Mortgage, Montebello, CA [Docket No. 09-9135-MR]

25. Evolution Funding Inc., Wellington, FL [Docket No. 09-9680-MR]

26. Fallon County Federal Credit Union, Baker, MT [Docket No. 09-9681-MR]

27. Financial Capital, Inc., Redding, CA [Docket No. 09-9682-MR]

28. First Capital Group, LP, Irvine, CA [Docket No. 09-9683-MR]

29. First Fidelity Mortgage, Inc., Cranford, NJ [Docket No. 09-9684-MR]

30. First Independent Mortgage LLC, Burlington, MA [Docket No. 09-9685-MR]

31. First Magnus Financial Corp., Tucson, AZ [Docket No. 09-9686-MR]

32. First National Bank and Trust, Beatrice, NE [Docket No. 09-9687-MR]

33. Genesis Mortgage Services, Inc., Lutz, FL [Docket No. 09-9691-MR]

34. Godwin Mortgage Group, Inc., Louisville, KY [Docket No. 09-9692-MR]

35. Great American Mortgage Services Corp., Hamilton Square, NJ [Docket No. 09-9695-MR]

36. Greenbrier Mortgage LLC, Charlotte, NC [Docket No. 09-9697-MR]

37. Home Source Lending Group LLC, Alpharetta, GA [Docket No. 09-9698-MR]

38. Homebuyers Funding LLC, Orlando, FL [Docket No. 09-9700-MR]

39. Hunter Partners, Inc., Bakersfield, CA [Docket No. 09-9701-MR]

40. Investors Mortgage Lending, Orlando, FL [Docket No. 09-9703-MR]

41. Lebanon Valley Farmers Bank, Lebanon, PA [Docket No. 09-9136-MR]

42. Lendia LLC, Marlborough, MA [Docket No. 09-9706-MR]

43. Main Street Bank and Trust, Champaign, IL [Docket No. 09-9707-MR ]

44. Mid America Bank FSB, Downers Grove, IL [Docket No. 09-9711-MR]

45. Midtowne Mortgage, Inc., Midvale, UT [Docket No. 09-9712-MR]

46. Midwest Residential Lending LLC, Tipp City, OH [Docket No. 09-9713-MR]

47. Millennium Capital Mortgage Co., Longwood, FL [Docket No. 09-9714-MR]

48. Moneyfirst Financial, Inc., Dallas, TX [Docket No. 09-9715-MR]

49. NCW Community Bank, Wenatchee, WA [Docket No. 09-9717-MR]

50. Nuestra Casa Mortgage, Inc., Santa Ana, CA [Docket No. 09-9718-MR]

51. Phelan Financial Services, Inc., Phelan, CA [Docket No. 09-9721-MR]

52. Premier Mortgage Funding, Inc., Clearwater, FL [Docket No. 09-9723-MR]

53. Premier Mortgage Group, Inc., Lexington, KY [Docket No. 09-9582-MR]

54. Prestige Capital Funding, Inc., Littleton, CO [Docket No. 09-9724-MR]

55. Prime Financial Corporation, Berwyn, IL [Docket No. 09-9725-MR]

56. Professional Mtg Serv of Central Florida, Inc., Orlando, FL [Docket No. 09-9728-MR]

57. TCSB Mortgage Company, Traverse City, MI [Docket No. 09-9739-MR]

58. The First National Bank & Trust, Beatrice, NE [Docket No. 09-9740-MR]

59. The Mortgage House, Inc., Hialeah, FL [Docket No. 09-9741-MR]

60. Traders National Bank-Tullahoma, Tullahoma, TN [Docket No. 09-9742-MR]

61. Trinity Wealth Mortgage Corp., Lincoln, CA [Docket No. 09-9744-MR]

62. Truepointe Mortgage, Layton, UT [Docket No. 09-9745-MR]

63. UMS LLC, Paramus, NJ [Docket No. 09-9746-MR]

64. Velocity Lending LLC, Clark, NJ [Docket No. 09-9751-MR]

65. Wes Holding Corporation, Charlotte, NC [Docket No. 09-9256-MR]

66. West Michigan Finance, Inc., Portage, MI [Docket No. 09-9752-MR]

67. Wow Financial LLC, Conshohocken, PA [Docket No. 09-9754-MR]

III. Lenders That Failed To Timely Meet Requirements for Annual Recertification of HUD/FHA Approval

Action: The Board entered into settlement agreements with the lenders listed below, which required each lender to pay a $3,500 civil money penalty, without admitting fault or liability.

Cause: The Board took this action based upon allegations that the lenders listed below failed to comply with the Department's annual recertification requirements in a timely manner.

1. 1st Choice Mortgage, Inc., Shelby Township, MI [Docket No. 09-9376-MR]

2. 1st Elite Home Loans LLC, Mount Laurel, NJ [Docket No. 09-9382-MR]

3. Access Financial Group, Inc., McDonough, GA [Docket No. 09-9378-MR]

4. Ace Mortgage LLC, Mandeville, LA [Docket No. 09-9763-MR]

5. All American Home Mortgages LLC, Henderson, NV [Docket No. 09-9764-MR]

6. American Capital Mortgage Corp., Portland, OR [Docket No. 09-9765-MR]

7. America Funding, Inc., McLean, VA [Docket No. 09-9502-MR]

8. American Pioneer Mortgage Serv., Boynton Beach, FL [Docket No. 09-9505-MR]

9. Bank of Tennessee, Kingsport, TN [Docket No. 09-9768-MR]

10. Blue Chicago Financial Corp. Chicago, IL [Docket No. 09-9514-MR]

11. Citigroup Global Markets Realty Corp., New York, NY [Docket No. 09-9306-MR]

12. Community One Mortgage LLC, Colorado Springs, Co [Docket No. 09-9385-MR]

13. Drexel Mortgage Corp., South Richmond Hill, NY [Docket No. 09-9364-MR]

14. Five Star Mortgage Services, Inc., Jacksonville, FL [Docket No. 09-9400-MR]

15. Flatbush Federal Savings Ala, Brooklyn, NY [Docket No. 09-9772-MR]

16. Genesis Home Mortgage Corporation, Hauppauge, NY [Docket No. 09-9412-MR]

17. Griffith & Blair American Home Mtg LLC, a/k/a Legacy Lenders Group, [Docket No. 09-9356-MR]

18. Hartford Financial Group, Dublin, OH [Docket No. 09-9392-MR]

19. Home Source Mortgage, Inc., Tustin, CA [Docket No. 09-9506-MR]

20. Hutchinson Government ECU, Hutchinson, KS [Docket No. 09-9237-MR]

21. Intercontinental Capital Group, Inc., New York, NY [Docket No. 09-9388-MR]

22. Liberty Mortgage Funding, Inc., Shelby Township, MI [Docket No. 09-9333-MR]

23. Magnolia Mortgage Company LLC, Mobile, AL [Docket No. 09-9417-MR]

24. Milford Bank, Milford, CT [Docket No. 09-9775-MR]

25. Minnwest Bank Montevideo, Montevideo, MN [Docket No. 09-9776-MR]

26. Minnwest Bank MV, Redwood Falls, MN [Docket No. 09-9120-MR]

27. Mutual Security Credit Union, Wilton, CT [Docket No. 09-9249-MR]

28. Now Mortgage Services, Inc., Kennewick, WA [Docket No. 09-9346-MR]

29. Numerica Mortgage LLC, Virginia Beach, VA [Docket No. 09-9510-MR]

30. Paladin Financial Services Corporation, Longwood, FL [Docket No. 09-9516-MR]

31. PHH Preferred Mortgage, Conshohocken, PA [Docket No. 09-9381-MR]

32. Pilot Bank, Tampa, FL [Docket No. 09-9777-MR]

33. Priority Mortgage Corp. of Wichita, Wichita, KS [Docket No. 09-6504-MR]

34. Pro Buy Equities Corp., Los Angeles, CA [Docket No. 09-9778-MR]

35. Remington Mortgage, Ltd., Plano, TX [Docket No. 09-9469-MR]

36. Republic Mortgage Financial Serv. Corp., Fenton, MI [Docket No. 09-9425-MR]

37. The First National Bank & Trust Co., Iron Mountain, MI [Docket No. 09-9783-MR]

38. Trinity Financial, Inc., Verona, PA [Docket No. 09-9507-MR]

39. Utah Mortgage Loan Corp., Midvale, UT [Docket No. 09-9472-MR]

40. Williamette Valley Bank, Salem, OR [Docket No. 09-9784-MR]

41. Zuniga Enterprises, Inc., Santa Ana, CA [Docket No. 09-09-9391-MR]

IV. Lenders That Failed To Meet Annual FHA Approval Requirements and Later Cured the Violations

Action: The Board entered into settlement agreements with each lender listed below, which required the lenders to pay, without admitting fault or liability, a $1,000 administrative fee and cure the violations within 30 days

Cause: The Board took this action based upon allegations that each of the lenders failed to timely meet the annual recertification requirements.

1. 1st Alliance Banc Corporation, Chicago, IL [Docket No. 09-9044-MR]

2. Aarow Mortgage Services, Inc., Laurel, MD [Docket No. 09-9053-MR]

3. Accunet Mortgagecom LLC, Butler, WI [Docket No. 09-9309-MR]

4. Albina Community Bank, Portland, OR [Docket No. 09-9231-MR]

5. Allied Credit Union, Houston, TX [Docket No. 9178-MR]

6. Amber Financial Group, LLC, San Diego, CA [Docket No. 09-9176-MR]

7. American Momentum Bank, Tampa, FL [Docket No. 09-9122-MR]

8. American Mortgage Services, Melrose, MA [Docket No. 09-9021-MR]

9. Amerilending and Associates Corp., Miami, FL [Docket No. 09-9005-MR]

10. Amston Mortgage Company, Inc., Moodus, CT [Docket No. 09-9288-MR]

11. Amwest Capital Mortgage, Inc., Escondido, CA [Docket No. 08-8060-MR]

12. Bank of Tucson, Tucson, AZ [Docket No. 09-9295-MR]

13. Beacon Financial Group, Inc., Melbourne, FL [Docket No. 09-9282-MR]

14. Best Mortgage Services LLC, Detroit, MI [Docket No. 09-9521-MR]

15. Blue Eagle Corporation, Elgin, IL [Docket No. 09-9201]

16. Bogman, Inc., Silver Spring, MD [Docket No. 09-9095-MR]

17. C&A Financial Enterprises, Inc., Macon, GA [Docket No. 09-9347-MR]

18. Capital Access Mortgage, Denver, CO [Docket No. 09-9351-MR]

19. Carrollton Mortgage Co., Modesto, CA [Docket No. 09-9523-MR]

20. Centerline Capital Group, Inc. New York, NY [Docket No. 09-9160-MR]

21. Central Kentucky Federal Savings Bank, Danville, KY [Docket No. 09-9299-MR]

22. CFCU Community Credit Union, Ithaca, NY [Docket No. 09-9130-MR]

23. Chicagoland Mortgage Exchange, Inc., Chicago, IL [Docket No. 09-9139-MR]

24. Citizens National Bank, Meridian, MS [Docket No. 09-9243-MR]

25. Clayton Peters & Associates, Inc., Baltimore, MD [Docket No. 09-9013-MR]

26. CMS Mortgage Solutions, Inc., Chesapeake, VA [Docket No. 09-9526-MR]

27. Colonial Mortgage Service Company, Montgomeryville, PA [Docket No. 09-9208-MR]

28. Connecticut Housing Inv. Fund, Inc., Hartford, CT [Docket No. 08-8046-MR]

29. Crestwood Mortgage Company, Bensalem, PA [Docket No. 09-9371-MR]

30. DLF Enterprises, Inc., West Bend, WI [Docket No. 09-9529-MR]

31. Drew Mortgage Associates, Inc., Shrewsbury, MA [Docket No. 09-9247-MR]

32. E and S Financial Group, Inc., Farmington Hills, MI [Docket No. 09-9312-MR]

33. Exigent Mortgage Corporation, Palm Harbor, FL [Docket No. 09-9134-MR]

34. Farmers State Bank, Watkins, MN [Docket No. 09-9081-MR]

35. Fidelity Mortgage Group, West Memphis, AR [Docket No. 09-9099-MR]

36. Financial Security Bank, Kerkhoven, MN [Docket No. 09-9116-MR]

37. First Financial Bank, Stephenville, TX [Docket No. 09-9111-MR]

38. First Home Equity, Inc., Mauldin, SC [Docket No. 09-9533-MR]

39. First Sentinel Bank, Richlands, VA [Docket No. 09-9106-MR]

40. Frontier Bank, Rock Rapids, IA [Docket No. 09-9181-MR]

41. Fullerton National Bank, Fullerton, NE [Docket No. 09-9167-MR]

42. Gateway Bank Mortgage, Inc., Raleigh, NC [Docket No. 09-9109-MR]

43. Griffith & Blair American Home Mortgage, [Docket No. 09-9356-MR],

44. Home Mortgage Bankers, Carolina, PR [Docket No. 09-9206]

45. Homeownership Solutions, LLC, West Hartford, CT [Docket No. 09-9150-MR]

46. InterNational Bank, McAllen, TX [Docket No. 09-9109-MR]

47. Inventive Mortgage Corp., Westchester, IL [Docket No. 09-9210-MR]

48. Keystone Community Bank, Kalmazoo, MI [Docket No. 09-9186-MR]

49. Lapeer County Bank & Trust Co., Lapeer, MI [Docket No. 09-9066-MR]

50. Leiman Mortgage Network, Lakewood, NJ [Docket No. 09-9079-MR]

51. Live Well Financial, Inc., Richmond, VA [Docket No. 09-9352-MR]

52. Mainstream Finance, Bangor, ME [Docket No. 08-8064-MR]

53. Marine Funding, Inc., South Richmond Hill, NY [Docket No. 09-9352-MR]

54. Massachusetts Housing Investment Corp., Boston, MA [Docket No. 09-9073-MR]

55. Midwest Custom Mortgage, Inc., Elgin, IL [Docket No. 09-9270-MR]

56. Money Connection, Inc., Fairlawn, OH [Docket No. 09-9273-MR]

57. Mortgage Options of America, Inc., Winchester, MA [Docket No. 09-9102-MR]

58. Mortgage Security, Inc., East Falmouth, MA [Docket No. 09-9289-MR]

59. Mortgage Services of Louisiana, Inc., Harahan, LA [Docket No. 09-9274-MR]

60. Mountainside Mortgage LLC, Salt Lake City, UT [Docket No. 09-9188-MR]

61. MSI Mortgage Services III, LLC, Bloomington, IL [Docket No. 09-9330-MR]

62. NetCentral Mortgage, LLC, Milwaukee, WI [Docket No. 09-9254-MR]

63. North Atlantic Mortgage Corp., Silver Spring, MD [Docket No. 09-9156-MR]

64. Northern Corridor Community Federal Credit Union, Rouses Point, NY [Docket No. 09-9223-MR]

65. Odin State Bank, Odin, MN [Docket No. 09-9300-MR]

66. Old J Corporation, Riverside, CA [Docket No. 08-8055-MR]

67. Oriental Bank and Trust, San Juan, PR [Docket No. 09-9538-MR]

68. Pacific Community Credit Union, Fullerton, CA [Docket No. 09-9539-MR]

69. Palace Home Mortgage Corporation, Olympia Fields, IL [Docket No. 09-9301-MR]

70. Peoples Federal Savings Bank, Auburn, IN [Docket No. 09-9144-MR]

71. Performance Residential Capital Corp., Farmingdale, NY [Docket No. 09-9540-MR]

72. Pinnacle Bank Wyoming, Cody, WY [Docket No. 9214-MR]

73. Premier Financial Funding, Inc., Fulton, MD [Docket No. 09-9355-MR]

74. Premium Mortgage Corp., Rochester, NY [Docket No. 09-9315-MR]

75. Pro-Buy Equities Corporation, Los Angeles, CA [Docket No. 09-9193-MR]

76. Proficio Mortgage Ventures LLC, Jacksonville, FL [Docket No. 09-9105-MR]

77. Rapid City Telco Federal Credit Union, Rapid City, SD [Docket No. 09-9216-MR]

78. RF Mortgage and Investment Corp., San Juan, PR [Docket No. 09-9108-MR]

79. RMK Financial Corporation, Rancho Cucamonga, CA [Docket No. 09-9209-MR]

80. Rockland Savings Bank, FSB, Rockland, ME [Docket No. 09-9245-MR]

81. Ryland Mortgage, Calabasa, CA [Docket No. 09-9033-MR]

82. Shell Lake State Bank, Shell Lake, WI [Docket No. 09-9257-MR]

83. Shore Community Bank, Toms River, NJ [ Docket No. 09-9174-MR]

84. Skyline Mortgage, LLC, a/k/a Alpha Mortgage Associates, Inc., [Docket No. 09-9195-MR]

85. Society Financial Corp., Farmington, CT [Docket No. 09-9324-MR]

86. South DeKalb Church Federal Credit Union, Decatur, GA [Docket No. 09-9265-MR]

87. Southern Missouri Bank of Marshfield, Marshfield, MO [Docket No. 09-9286-MR]

88. Sunrise Vista Mortgage Corp., Citrus Heights, CA [Docket No. 09-9541-MR]

89. TBI Mortgage Company, Horsham, PA [Docket No. 09-9542-MR]

90. Texoma Community Credit Union, Wichita Falls, TX [Docket No. 09-9032-MR]

91. Total Mortgage Services LLC, Milford, CT [Docket No. 09-9345-MR]

92. Traco Financial Corporation, Salibury, MD [Docket No. 09-9544-MR]

93. Troy Mortgage Corporation, Inc., Greenwood Village, Co [Docket No. 09-9275-MR]

94. Union Bank Benton, Benton, AZ [Docket No. 09-9222-MR]

95. Urban Trust Bank, Lake Mary, FL [Docket No. 09-9251-MR]

96. US Mortgage Network, Sewickley, PA [Docket No. 09-9335-MR]

97. Village Oaks Financial Group, Bullhead City, AZ [Docket No. 08-8057-MR]

98. Wachovia Equity Servicing LLC (Title II), Charlotte, NC [Docket No. 09-9255-MR]

99. Westerly Community Credit Union, Westerly, RI [Docket No. 09-9119-MR]

100. Westfield Bank FSB, Medina, OH [Docket No. 09-9207-MR]

101. Westsound Bank, Bremerton, WA [Docket No. 09-9281-MR]

102. Wholesale Capital Corp., Moreno Valley, CA [Docket No. 08-8038-MR]

103. Willamette Valley Bank, Salem, OR [Docket No. 09-9067-MR]

104. Yankee Mortgage Company LLC, Glastonbury, CT [Docket No. 09-9072-MR]

Dated: December 18, 2009.
David H. Stevens,
Assistant Secretary for Housing-Federal Housing Commissioner.

[FR Doc. 2010-1091 Filed 1-20-10; 8:45 am]

BILLING CODE 4210-67-P